SECURITIES AND EXCHANGE COMMISSION

[File No. 500-1]

Magnum d'Or Resources, Inc.; Order of Suspension of Trading

April 29, 2011.

It appears to the Securities and Exchange Commission that there is a lack of current and accurate information concerning the securities of Magnum d'Or Resources, Inc. (“Magnum”) because of questions regarding the accuracy of assertions by Magnum in its Web site and in press releases to investors concerning, among other things: (1) The company's current financial condition; and (2) the company's current operations.

The Commission is of the opinion that the public interest and the protection of investors require a suspension of trading in the securities of the above-listed company.

Therefore, it is ordered, pursuant to Section 12(k) of the Securities Exchange Act of 1934, that trading in the securities in the above-listed company is suspended for the period from 9:30 a.m. EDT on April 29, 2011, through 11:59 p.m. EDT, on May 12, 2011.

By the Commission.
Jill M. Peterson,
Assistant Secretary.

[FR Doc. 2011-10850 Filed 4-29-11; 4:15 pm]

BILLING CODE 8011-01-P